ENVIRONMENTAL PROTECTION AGENCY

40 CFR Part 271

[FRL-6923-5]

Louisiana: Final Authorization of State Hazardous Waste Management Program Revisions

AGENCY: Environmental Protection Agency (EPA).

ACTION: Immediate final rule.

SUMMARY: The State of Louisiana has applied for Final authorization of its revisions to its Hazardous Waste Program under the Resource Conservation and Recovery Act (RCRA). The EPA has determined that these changes satisfy all requirements needed to qualify for Final authorization, and is authorizing the State's changes through this immediate final action. The EPA is publishing this rule to authorize the changes without a prior proposal because we believe this action is not controversial and do not expect comments that oppose it. Unless we get written comments which oppose this authorization during the comment period, the decision to authorize the State of Louisiana Department of Environmental Quality's (LDEQ) changes to their hazardous waste program will take effect. If we get comments that oppose this action, we will publish a document in the Federal Register (FR) withdrawing this rule before it takes effect and a separate document in the proposed rules section of this Federal Register will serve as a proposal to authorize the changes.

DATES: This immediate final rule is effective March 5, 2001 unless EPA receives adverse written comments by February 1, 2001. If EPA receives such comments, it will publish a timely withdrawal of this immediate final rule in the Federal Register and inform the public that this authorization will not take effect.

ADDRESSES: Written comments, referring to Docket Number LA-00-2 should be sent to Alima Patterson Region 6 Regional Authorization Coordinator, Grants and Authorization Section (6PD-G), Multimedia Planning and Permitting Division, EPA Region 6, 1145 Ross Avenue, Dallas, Texas 75202-2733. Copies of the Louisiana program revision application and the materials which EPA used in evaluating the revision are available for inspection and copying from 8:30 a.m. to 4 p.m. Monday through Friday, at the following addresses: Louisiana Department of Environmental Quality, H.B. Garlock Building, 7290 Bluebonnet, Baton Rouge, Louisiana 70810, (225)765-0397 and EPA, Region 6, 1445 Ross Avenue, Dallas, Texas 75202-2733, (214) 665-8533.

FOR FURTHER INFORMATION CONTACT: Alima Patterson, (214) 665-8533.

SUPPLEMENTARY INFORMATION:

A. Why Are Revisions to State Programs Necessary?

States that receive final authorization from EPA under RCRA Section 3006(b), 42 U.S.C. 6926(b), must maintain a hazardous waste program that is equivalent to, consistent with, and no less stringent than the Federal Hazardous Waste Program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260-266, 268, 270, 273, and 279.

B. What Is the Effect of Today's Authorization Decision?

The effect of this decision is that a facility in Louisiana subject to RCRA will now have to comply with the authorized State requirements instead of the equivalent federal requirements in order to comply with RCRA. Louisiana has enforcement responsibilities under its state hazardous waste program for violations of such program, but EPA retains its authority under RCRA sections 3007, 3008, 3013, and 7003, which include, among others, authority to: (1) Do inspections, and require monitoring, tests, analyses or reports, (2) enforce RCRA requirements and suspend or revoke permits, and (3) take enforcement actions regardless of whether the State has taken its own actions. This action does not impose additional requirements on the regulated community because the regulations for which Louisiana is being authorized by today's action are already effective, and are not changed by today's action.

C. What Is the History of Louisiana's Final Authorization and Its Revisions?

The State of Louisiana initially received final authorization on February 7, 1985 (50 FR 3348), to implement its base Hazardous Waste Management Program. Louisiana received authorization for revisions to its program on January 29, 1990 (54 FR 48889); August 26, 1991 (56 FR 41958) August 26, 1991, November 7, 1994 (59 FR 55368) effective January 23, 1995; December 23, 1994 (59 FR 66200) effective March 8, 1995; there were technical corrections made on January 23, 1995 (60 FR 4380), effective January 23, 1995 and another technical correction was made on April 11, 1995 (60 FR 18360). We authorized the additional following revisions: October 17, 1995 (60 FR 53704) effective January 2, 1996; March 28, 1996 (61 FR 13777) effective June 11, 1996; December 29, 1997 (62 FR 67572) effective March 16, 1998; October 23, 1998 (63 FR 56830) effective December 22, 1998; August 25, 1999 (64 FR 46302) effective October 25, 1999; September 2, 1999 (64 FR 48099) effective November 1, 1999; and February 28, 2000 (65 FR 10411) effective April 28, 2000. On September 1, 2000, Louisiana applied for approval of its program revisions for RCRA Cluster IX. In this application, Louisiana is seeking approval of RCRA Cluster IX in accordance with 40 CFR 271.21(b)(3).

Since 1979, the State of Louisiana, through the Louisiana Department of Natural Resources, has conducted an effective program designed to regulate those who generate, transport, treat, store, dispose or recycle hazardous waste. During the 1983, Regular Session of the Louisiana Legislature, Act 97 was adopted which amended and reenacted Louisiana Revised Statutes (LRS) 30:1051 et seq., or the Environmental Affairs Act. This Act created the new Department. During the 1999 Regular Session of Louisiana Legislature, Act 303 revised the LRS 30:2011 et seq., allowing Department of Environmental Quality (LDEQ) to re-engineer the Department to perform more efficiently and to meet its strategic goals.

Act 97, which amended and reenacted LRS 30:1051 et seq., or the Environmental Affairs Act, transferred the duties and previous responsibilities delegated to the Department of Natural Resources, Office of Environmental Affairs, to the new Department. The LDEQ and the Department of Natural Resources, Office of Conservation, has a memorandum of understanding that outlines the protocol for activities associated with the exploration, development, or production of oil, gas, or geothermal resources. The LDEQ has lead agency jurisdictional authority for administering the RCRA Subtitle C program in Louisiana. Also the LDEQ is designated to facilitate communication between the EPA and the State.

The State law governing the generation, transportation, treatment, storage and disposal of hazardous waste can be found in LRS 30:2171-2205. This part may be cited as the “Louisiana Hazardous Waste Control Law.” The laws governing hazardous waste should be viewed as part of larger framework of environmental laws specified in Title 30, Subtitle II Louisiana Revised Statutes. The State of Louisiana has adopted the Federal regulations for Cluster IX promulgated from July 1, 1998, through June 30, 1999; the State of Louisiana regulations became effective March 20, 1999, February 20, and July 20, 2000.

D. What Changes Are We Authorizing With Today's Action?

Louisiana applied for final approval of its revision to its hazardous waste program in accordance with 40 CFR 271.21. Louisiana's revisions consist of regulations which specifically govern RCRA Cluster IX rules. Louisiana requirements are included in a chart with this document. The EPA is now making a final decision, subject to receipt of written adverse comments that oppose this action, that Louisiana's hazardous waste program revision satisfies all of the requirements necessary to qualify for final authorization. Therefore, we grant Louisiana final authorization for the following program revisions:

Federal citation | State analog
1. Petroleum Refining Process Wastes, [63 FR 42110] August 6, 1998. (Checklist 169) | Louisiana Revised States (LRS) 30: § 2180 et seq, as amended June 14, 1991, effective June 14, 1991; Louisiana Hazardous Waste Regulations (LHWR) §§ 109.Hazardous Waste.2.d.iii, 109.Hazardous Waste.4.b.ii.(b),109.Hazardous Waste.4.e, amended March 20, 1999, effective March 20, 1999; 105.D.1.l.i, amended February 20, 2000, effective February 20, 2000; 105.D.1.l.ii, 105.D.1.r, 105.D.1.r.i, amended March 20, 1999, effective March 20, 1999; 105.D.1.r.ii, amended February 20, 2000, effective February 20, 2000; 105.D.1.s, amended March 20, 1999, effective March 20, 1999; 4105.B.11, amended September 20, 1996, effective September 20, 1996; 4105.B.12, 4901.B.b.Table 1, 4901.C.Table .2, 4901.G.Table 6, 2218.A , 2218.B, 2218.B.1, 2218.B.2, 2218.B.3, 2218.B.4, amended March 20, 1999, effective March 20, 1999; 3001.B.3, amended September 20, 1999, effective September 20, 1999; 2218.B.5, 2218.C, and Chapter 22.Table 2, amended March 20, 1999, effective March 20, 1999. LAC 33:V.3001.B.3 is more stringent than 40 CFR 266.100(b)(3) because LDEQ does not acknowledge conditionally exempt small quantity generators. If a person generates “greater than 100 kg of hazardous waste but less than 1000 kg” in this state, the generator is the equivalent of a large quantity generator and would follow the more stringent regulations for LQG.
2. Land Disposal Restrictions Phase IV—Zinc Micronutrient Fertilizers, Amendment [63 FR 46332] August 31, 1998. (Checklist 170) | LRS 30:2180 et seq, as amended June 14, 1991, effective June 14, 1991; LHWR §§ 109.Solid Waste.3.c amended March 20, 1999, effective March 20, 1999; 109.Solid Waste.Table 1, amended March 20, 1999, effective March 20, 1999; 109.Solid Waste.5.a.iii, amended February 20, 2000, effective February 20, 2000; 105.D.1.p, amended March 20, 1999, effective March 20, 1999; 105.D.1.p.v, amended February 20, 2000, effective February 20, 2000; 105.D.2.h.iii, amended February 20, 2000, effective February 20, 2000; 105.D.2.h.iii.(a), amended February 20, 2000, effective February 20, 2000; 1109.E.1.e, amended September 20, 1998, effective September 20, 1998; 2203.A.Hazardous Debris, amended February 20, 2000, effective February 20, 2000; 2203.A. Soil, amended February 20, 2000, effective February 20, 2000; 2245.Generator Paperwork Requirements Table, amended February 20, 2000, effective February 20, 2000; 2247.B.2.a, amended March 20, 1999, effective March 20, 1999; 2247.C.4, amended February 20, 2000, effective February 20, 2000; 2246.D.2, amended February 20, 2000, effective February 20, 2000; 2246.D.3, amended February 20, 2000, effective February 20, 2000; 2223.I, amended February 20, 2000, effective February 20, 2000; 2223.J, amended March 20, 1999, effective March 20, 1999; Chapter 22.Table 2, amended February 20, 2000, effective February 20, 2000; Chapter 22.Table 7, amended February 20, 2000, effective February 20, 2000; 2236.C, amended March 20, 1999, effective March 20, 1999; 2236.C.3.a, amended February 20, 2000, effective February 20, 2000; and 2236.C.3.b, amended February 20, 2000, effective February 20, 2000.
3. Emergency Revisions of the Land Disposal Restrictions (LDR) Treatment Standards for Listed Hazardous Wastes from Carbamate Production, [63 FR 47410] September 4, 1998. (Checklist 171) | LRS 30:2180 et seq, as amended June 14, 1991, effective June 14, 1991; LHWR §§ 109.Solid Waste.3.c, amended March 20, 1999, effective March 20, 1999; 109.Solid Waste. Table 1, amended March 20, 1999, effective March 20, 1999; 109.Solid Waste.5.a.iii, amended February 20, 2000, effective February 20, 2000; 105.D.1.p, amended March 20, 1999, effective March 20, 1999; 105.D.1.p.v, amended February 20, 2000, effective February 20, 2000; 105.D.2.h.iii, amended February 20, 2000, effective February 20, 2000; 105.D.2.h.iii.(a), amended February 20, 2000, effective February 20, 2000; 1109.E.1.e, amended September 20, 1998, effective September 20, 1998; 2203.A, Hazardous Debris, amended February 20, 2000, effective February 20, 2000; 2203.A. Soil amended February 20, 2000, effective February 20, 2000; 2245.Generator Paperwork Requirements Table amended February 20, 2000, effective February 20, 2000; 2247.B.2.a, amended March 20, 1999, effective March 20, 1999; 2247.C.4, 2246.D.2, 2246.D.3, 2223.G; 2223.H, amended February 20, 2000, effective February 20, 2000; 2223.J, amended March 20, 1999, effective March 20, 1999; Chapter 22. Table 2 amended February 20, 2000, effective February 20, 2000; Chapter 22. Table 7, amended February 20, 2000, effective February 20, 2000; 2236.C, amended March 20, 1999, effective March 20, 1999; 2236.C.3.a, amended February 20, 2000, effective February 20, 2000; and 2236.C.3.b, amended February 20, 2000, effective February 20, 2000.
4. Land disposal Restrictions Phase IV-Extension of Compliance Date for Characteristic Slags, [63 FR 48124] September 9, 1998. (Checklist 172) | LRS 30:2180 et seq, as amended June 14, 1991, effective June 14, 1991; LHWR §§ 2216.B, 2216.C, 2216.D, 2216.E, 2216.F, amended March 20, 1999, effective March 20, 1999.
5. Land Disposal Restrictions; Treatment Standards for Spent Potliners from Primary Aluminum Reduction (K088); Final Rule, [63 FR 51254] September 24, 1998. (Checklist 173) | LRS 30:2180 et seq, as amended June 14, 1991, effective June 14, 1991; LHWR §§ 2221.F.3, amended February 20, 2000, effective February 20, 2000; and Chapter 22. Table 2, amended February 20, 2000, effective February 20, 2000.
6. Post-Closure Permit Requirement and Closure Process, [63 FR 56710] October 22, 1998. (Checklist 174) | LRS 30:2180 et seq, as amended June 14, 1991, effective June 14, 1991; LHWR §§ 305. A, 305.H, 519, 528, 3301.F, 3301.G., 3301.G.1, 3301.G.2, 3501.D, 3501.D.1, 3501.D.2, 3511.B.8, 3511.C.5, 3523.B.4, 3523.D.2.d, 3701.D, 3701.D.1, 3701.D.2, 4367.E, 4367.E.1, 4367.E.2, 4377.C, 4377.D, 4377.D.1, 4377.D.2, 4381.B.8, 4381.C.1.d, 4391.C.4, 4391.C.5, 4391.D.1.c, 4396.A, 4396.A.1, 4396.A.2, 4396.A.3, 4396.B.1, 4396.B.1.a, 4396.B.1.b, 4396.B.1.c, 4396.B.2, 4396.B.3, 4397.D, 4397.D.1, and 4397.D.2, amended March 20, 1999, effective March 20, 1999.
7. Hazardous Remediation Waste Management Requirements (HWIR-Media), [63 FR 65874] November 30, 1998 (Checklist 175) | LRS 30:2180 et seq, as amended June 14, 1991, effective June 14, 1991; LHWR §§ 109, amended March 20, 1984, effective March 20, 1984, 109. Corrective Action Management Unit (CAMU), 109. Miscellaneous Unit, 109. Remediation Waste, 109. Remediation Waste Management Site, 109. Staging Pile, 105.D.9, 105.D.9.a, 105.D.9.b.i, 105.D.9.b.ii, 105.D.9.b.iii, 1501.H, 1501.H.1,1501.H.2, 1501.H.3, 1501.H.3.i, 1501.H.3.ii, 1501.H.4, 1501.H.5, 1501.H.6, 1501.H.7, 1501.H.8, 1501.H.9, 1501.H.10, 1501.H.11, 1501.H.12, 1501.H.13, 1529.B.20, 3322.E, 2601.A, 2601.A.1, 2601.A.2, 2603.A, 2605, 2605.A, 2605.B, 2605.C, 2605.C.1, 2605.C.2, 2605.C.3, 2605.D, 2605.D.1, 2605.D.1.a, 2605.D.1.b, 2605.D.1.c, 2605.D.2, 2605.D.2.a, 2605.D.2.b, 2605.D.2.c, 2605.D.2.d, 2605.D.2.e, 2605.D.2.f, 2605.E.
Checklist 175 Conds | 2605.E.1, 2605.E.1.a, 2605.E.1.b, 2605.E.2, 2605.F, 2605.F.1, 2605.F.2, 2605.F.3, 2605.G, 2605.H, 2605.I, 2605.I.1, 2605.I.1.a, 2605.I.1.b, 2605.I.2, 2605.J, 2605.J.1, 2605.J.1.a, 2605.J.1.b, 2605.J.1.c, 2605.J.2, 2605.J.3, 2605.K, 2605.K.1, 2605.K.2, 2605.L, 2605.L.1, 2605.L.1.a, 2605.L.1.b, 2605.L.2, 2605.L.3, 2605.L.4, 2605.M, 4301.B, 2203.A. Land Disposal, 2205.H,513.A.1, 513.A.2, 322.D.3.g, 322.N.3, 540, 4305.F.1, 545, 550.A, 550.B, 550.C, 550.D, 550.D.1, 550.D.2, 550.E, 550.F, 555.A, 555.A.1, 555.A.2, 555.B, 555.C, 560,565; 565; 570; 575, 580,570, 575, 580.A,580.A.1, 580.A.2, 580.A.3, 580.A.4, 580.A.5,.a, 580.A.5.b, 580.A.5.c, 580.A.6, 580.A.6.a,580.A.6.b, 580.A.6.c, 580.A.7, 580.A.8, 580.A.9,585, 590, 595, 600.A, 600.B, 605, 605.A, 605.A.1, 605.A.2, 605.A.2.a, 605.A.2.b, 606.A.2.c, 605.A.3, 610.A, 610.A.1, 610.A.2, 610.A.2.a, 610.A.2.b, 610.A.2.c, 610.A.2.d, 610.A.3, 615.A, 615.A.1, 615.A.2, 615.A.3, 615.A.4, 615.B, 615.C, 615.C.1, 615.C.2, 615.C.3, 615.C.4, 615.C.5, 615.C.6, 615.C.7, 615.C.B.615.C.9, 615.D, 15.D.1, 615.D.2, 615.D.3, 620.A, 620.B, 620.C, 620.D, 620.E, 620.F, 620.F.2, 620.F.3, 620.F.4, 620.F.5, 620.F.6, 620.F.7, 620.G, amended February 20, 2000, effective February 20, 2000; 625.A, 625.B, 630, 630.A, 630.C, 630.1.A, 630.A.2 630.A.3, 635, and 640, amended July 20, 2000, effective July 20, 2000; 645.A, 645.A.1, 645.A.2, 645.A.3, 645.A.4, 645.A.5, 645.A.6, 645.A.7, 645.A.8, 645.B, 645.C, 650.A, 650.B, 655, amended February 20, 2000, effective February 20, 2000; 660.A, 660.B, amended July 20, 2000, effective July 20, 2000; 665, 670, 675, 680.A, 680.A.1, 680.A.2, 685.A, 685.B, 685.C, 690.A, 690.B, 695, 695.A,699.B, 699.C, 699.D, 699.D.1, 699.D.2, 699.D.3, 699.D.4, 699.E,699.E.1, and 699.E.2, amended February 20, 2000, effective February 20, 2000 and LA R.S. 30:2024(A) as amended July 20, 2000, effective July 20, 2000.
8. Universal Waste Rule—Technical Amendment, [63 FR 71225] December 24, 1998. (Checklist 176) | LRS 30:2180 et seq, as amended June 14, 1991, effective June 14, 1991; LHWR §§ 4145.A, 4145.A. Table 4145.B, 4145.B.1, 4145.B.1.a, 4145.B.1.b, 4145.B.1.c, 4145.B.1.d, 4145.B.1.e, 4145.B.1.f, 4145.B.1.g, 4145.B.1.b, 4145.B.1.c, 4145.B.1.d, 4145.B.1.e, 4145.B.1.f, 4145.B.1.g, 4145.B.2.a, 4145.B.2.b, 4145.B.2.c, 4145.B.2.d, 4145.B.2.e, 4145.B.2.f, 4145.B.2.g, 3813. Small Quantity Handler of Universal Waste, amended February 20, 2000, effective February 20, 2000.
9. Organic Air Emission Standards: Clarification and Technical Amendments, [64 FR 3382] January 21, 1999. (Checklist 177) | LRS 30:2180 et seq, as amended June 14, 1991, effective June 14, 1991; LHWR §§ 1109.E.1.a.i, 1109.E.1.a.ii, 1703. Equipment 1703. Open-ended valve or line, 1703. Sampling Connection System, 1747.B.5, 1747.A.1.a, 1753.A.1.b, 1753.B.1.a, 1753.B.1.b, 1755.H.3, 1755.H.3.a, 1755.H.3.b, 1759.E.6, 4727B.1.a, 4727.B.1.b February 20, 2000, effective February 20, 2000, 1719 (1747.B.5), 1727.A.1.a, 4727.A.1.b, 2000; 4727.A.3.b.ii, 1727.A.3.b.iv, 4727.A.3.c, 4727.B.1.a, 4727.B.1.b, 4727.B.1.b.ii, 4727.B.3.b.iv,4727.B.3.c, 4729 (1755.H.3), 4729 (1755.H.3.a), 4729 (1755.H.3.b), and 4733 (1759.E.6), amended February 20, 2000, effective February 20, 2000.
10. Petroleum Refining Process Waste—Leachate Exemption, [64 FR 6806] February 11, 1999. (Checklist 178) | LRS 30:2180 et seq, as amended June 14, 1991, effective June 14, 1991; LHWR §§ 105.D.2.p, 105.D.2.p.i105.D.2.p.ii, 105.D.2.p.iii, 105.D.2.p.iv, 105.D.2.p.v, amended February 20, 2000, effective February 20, 2000.
11. Land Disposal Restrictions Phase IV—Technical Corrections and Clarifications to Treatment Standards, [64 FR 25408] May 11, 1999. (Checklist 179) | LRS 30:2180 et seq, as amended June 14, 1991, effective June 14, 1991; LHWR §§ 109 Solid Waste.3.c, 109. Solid Waste Table 1, amended March 20, 1999, effective March 20, 1999, 109 Solid Waste.5.a.iii, amended February 20, 2000, effective February 20, 2000, 105.D.1.p, amended March 20, 1999, effective March 20, 1999, 105.D.1.p.v, 105.D.2.h.iii, 105.D.2.h.iii.(a), amended February 20, 2000, effective February 20, 2000, 1109.E.1.e amended September 20, 1998, effective September 20, 1998; 2236.C, and 2236.C.3.a, as amended March 20, 1999; effective March 20, 1999.
Checklist 179 Conds | 2203.A. Hazardous Debris, 2203.A.Soil, 2245. Generator Paperwork Requirement Table, 2247.B.2.a, amended March 20, effective March 20, 1999; 2247.C.4, 2246.D.2, 2246.D.3, amended February 20, 2000, effective February 20, 2000; 2236.C, amended March 20, 1999, effective March 20, 1999; 2236.C.3.a, amended February 20, 2000, effective February 20, 2000; and 2223.I, amended February 20, 2000, effective February 20, 2000; 2223.J amended March 20, 1999, effective March 20, 1999; Chapter 22. Table 2, amended February 20, 2000, effective February 20, 2000; Chapter 22. Table 7, amended February 20, 2000, 2236.C.3.b., amended February 20, 2000, effective February 20, 2000.
12. Test Procedures for the Analysis of Oil and Grease and Non-Polar Material, [64 FR 26315] May 14, 1999. (Checklist 180) | LRS 30:2180 et seq, as amended June 14, 1991, effective June 14, 1991; LHWR §§ 110.A.11, amended February 20, 2000, effective February 20, 2000; and 110.A.17, amended February 20, 2000, effective February 20, 2000.

E. What Is the Relationship Between the Resource Conservation and Recovery Act and the Hazardous Waste Combustor MACT? How Does This Affect Delegation of This Standard to LDEQ's Authorization?

In this authorization document, the State of Louisiana is also seeking authorization for the Post-Closure Permit Requirement and Closure Process (Checklist 174). On September 30, 1999, the EPA finalized the National Emission Standards for Hazardous Air Pollutants (NESHAP) for three categories waste comubustors (HWCs): incinerators, cement kilns and light-weight aggregate kilns (64 FR 52828). The EPA promulgated this rule under joint authority of the Clean Air Act (CAA) and (RCRA). Before this rule went into effect, the air emissions from these three types of HWCs was primarily regulated under the authority of RCRA (see 40 CFR parts 264, 265, 266, and 270). However, with the release of the final HWC NESHAP (see 40 CFR part 63 subpart EEE), the air emissions from these sources is now regulated under RCRA and the CAA. Even though both statutes give us the authority to regulate these emissions, we determined that having emissions standards and permitting requirements in both sets of implementing regulations would be duplicative. For this reason, using the authority provided by section 1006(b) of RCRA, we deferred the RCRA requirements for HWC emission controls to the CAA requirements of 40 CFR part 63 subpart EEE.

Therefore, with today's authorization of the State of Louisiana for the RCRA provisions of the September 30, 1999 HWC NESHAP rule, the RCRA waste management standards for air emissions from these units will no longer apply after the facility has demonstrated compliance with 40 CFR part 63 subpart EEE. One notable exception concerns section 3005(c)(3) of RCRA, which requires that each RCRA permits contain the terms and conditions necessary to protect human health and the environment. Under this provision of RCRA, if a regulatory authority determines that more stringent conditions than the HWC NESHAP are necessary to protect human health and environment for a particular facility, then the regulatory authority may impose those conditions in the facility's RCRA permit. (See the HWC MACT rule preamble discussion on the interrelationship of the MACT rule with the RCRA Omibus provision and site specific risk assessment at 64 FR 52828, pages 52839-52843, September 30, 1999, and RCRA Site-Specific Risk Assessment Policy for Hazardous Waste Combustion Facilities dated June 2000 for more information.

F. What Decision Has EPA Made?

We conclude that Louisiana's application to revise its authorized program meets all of the statutory and regulatory requirements established by RCRA. Therefore, we grant Louisiana final authorization to operate its hazardous waste program with the changes described in the authorization application. Louisiana has responsibility for permitting treatment, storage, and disposal facilities within its borders (except in Indian Country) and for carrying out the aspects of the RCRA program described in its revised program application, subject to the limitations of Hazardous and Solid Waste Amendments of 1984 (HSWA). New federal requirements and prohibitions imposed by Federal regulations that EPA promulgates under the authority of HSWA take effect in authorized States before they are authorized for the requirements. Thus, EPA will implement those requirements and prohibitions in Louisiana, including issuing permits, until the State is granted authorization to do so.

G. How Do the Revised State Rules Differ From the Federal Rules?

The EPA considers the following State requirements to be more stringent than the Federal: LAC 33:V.3001.B.3. is more stringent than 40 CFR 266.100(b)(3) because LDEQ does not acknowledge conditionally exempt small quantity generators. If a person generates “greater than 100 kilo grams of hazardous waste but less than 1000 kilo grams” in the State, the generator is the equivalent of a large quantity generator and would follow the more stringent regulations for large quantity generators. In this authorization of the State of Louisiana's program revisions for RCRA cluster IX, there are no provisions that are broader in scope. Broader in scope requirements are not part of the authorized program and EPA can not enforce them.

H. Who Handles Permits After This Authorization Takes Effect?

The EPA will administer any RCRA permits or portions of permits it has issued to facilities in the State until the State becomes authorized. At the time the State program is authorized for new rules, EPA will transfer all permits or portions of permits issued by EPA to the State. The EPA will not issue any more permits or portions of permits for the provisions listed in this document after the effective date of this authorization. The EPA will continue to implement and issue permits for HSWA requirements for which the State is not yet authorized.

I. Why Wasn't There a Proposed Rule Before Today's Notice?

The EPA is authorizing the State's changes through this immediate final action and is publishing this rule without a prior proposal to authorize the changes because EPA believes it is not controversial and we expect no comments that oppose this action. The EPA is providing an opportunity for public comment now. In addition, in the proposed rules section of today's Federal Register we are publishing a separate document that proposes to authorize the State changes. If EPA receives comments opposing this authorization, that document will serve as a proposal to authorize the changes.

J. Where Do I Send My Comments and When Are They Due?

You should send written comments to Alima Patterson, Regional Authorization Coordinator, Grants and Authorization Section (6PD-G), Multimedia Planning and Permitting Division, EPA Region 6, 1445 Ross Avenue, Dallas, Texas 75202-2733, (214) 665-8533. Please refer to Docket Number LA-00-2. We must receive your comments by February 1, 2001. You may not have an opportunity to comment again. If you want to comment on this action, you must do so at this time.

K. What Happens if EPA Receives Comments Opposing This Action?

If EPA receives comments opposing this action, we will publish a second Federal Register document before the immediate final rule takes effect. The second document may withdraw the immediate final rule before it takes effect and a separate document in the proposed rules section of this Federal Register will serve as a proposal to authorize the changes or the document may identify the issues raised, respond to comments, and affirm that the immediate final rule will take effect March 5, 2001.

L. When Will This Approval Take Effect?

Unless EPA receives comments opposing this action, this final authorization approval will become effective without further notice on March 5, 2001.

M. Where Can I Review the State's Application?

You can view and copy the State of Louisiana's application from 8:30 a.m. to 4 p.m. Monday through Friday at the following addresses: Louisiana Department of Environmental Quality, H.B. Garlock Building, 7290 Bluebonnet, Baton Rouge, Louisiana 70810, (504) 765-0397 and EPA, Region 6, 1445 Ross Avenue, Dallas, Texas 75202-2733, (214) 665-6444. For further information contact Alima Patterson, Region 6 Authorization Coordinator, Grants and Authorization Section (6PD-G), Multimedia Planning and Permitting Division, EPA Region 6, 1445 Ross Avenue, Dallas, Texas 75202-2733, (214) 665-8533.

N. How Does Today's Action Affect Indian Country in Louisiana?

Louisiana is not authorized to carry out its Hazardous Waste Program in Indian country within the State. This authority remains with EPA. Therefore, this action has no effect on Indian country.

O. What Is Codification?

Codification is the process of placing the State's statutes and regulations that comprise the State's authorized hazardous waste program into the CFR. The EPA does this by referencing the authorized State rules in 40 Code of Federal Regulations part 272. The EPA reserves the amendment of 40 CFR part 272, subpart T for this codification of Louisiana's program changes until a later date.

Administrative Requirements

The Office of Management and Budget (OMB) has exempted this action from the requirements of Executive Order 12866 (58 FR 51735, October 4, 1993), and therefore this action is not subject to review by OMB. This action authorizes State requirement for the purpose of RCRA 3006 and impose no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it dos not contain any unfunded Mandates Reform Act of 1995 (Public Law 104-4). For the same reason, this action also does not significantly or uniquely affect the communities of tribal governments, as specified by Executive Order 13084 (63 FR 27655, May 10, 1998). This action will not have substantial direct effects on States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. The EPA has compiled with Executive Order 12630 (53 FR 8859, March 15, 1988) by examining the takings implications of the rule in accordance with the “Attorney Generals’ Supplemental Guidelines for the Evaluation of Risk and Avoidance of Unanticipated Takings' issued under executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule to each House of the Congress and to the Comptroller General of the United States. The EPA will submit a report containing this document and other required information to the U.S. Senate, the U.S. House of Representative, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous materials transportation, Hazardous waste, Indian lands, Intergovernmental relations, Penalties, Reporting and recordkeeping requirements, Water pollution control, Water supply.

Authority

This notice is issued under the authority of sections 2002(a), 3006, and 7004(b) of the Solid Waste Disposal Act as amended, 42 U.S.C. 6912(a), 6926, 6974(b).

Dated: December 7, 2000.
Myron O. Knudson,
Acting Regional Administrator, Region 6.

[FR Doc. 00-33158 Filed 12-29-00; 8:45 am]

BILLING CODE 6560-50-P